DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before November 6, 2012. If you anticipate difficulty in submitting comments within that period, contact the person listed below as soon as possible.

ADDRESSES: Written comments may be sent to Jacqueline D. Rogers, U.S. Department of Energy, Office of Health, Safety and Security, HS-11, 1000 Independence Avenue SW., Washington, DC 20585, by fax at 202-586-8548, or by email at: jackie.rogers@hq.doe.gov, or information about the collection instruments may be obtained at: http://www.hss.dow.gov/pra.html.

FOR FURTHER INFORMATION CONTACT: Requests for additional information or copies of the information collection instrument and instructions should be directed to Jacqueline D. Rogers, U.S. Department of Energy, Office of Health, Safety and Security, HS-11, 1000 Independence Avenue SW., Washington, DC 20585, or by fax at 202-586-8548, or by email at jackie.rogers@hq.doe.gov.

SUPPLEMENTARY INFORMATION: This information collection request contains: (1) OMB Control No.: 1910-5112; (2) Information Collection Request Title: Final Rule: Chronic Beryllium Disease Prevention Program; (3) Type of Review: Renewal; (4) Purpose: This collection provides the Department with the information needed to continue reducing the number of workers currently exposed to beryllium in the course of their work at DOE facilities managed by DOE or its contractors; minimize the levels and potential exposure to beryllium; to provide information to employees, to provide medical surveillance to ensure early detection of disease; and to permit oversight of the programs by DOE management; (5) Annual Estimated Number of Respondents: 4,499 (22 DOE sites and 4,477 workers affected by the rule); (6) Annual Estimated Number of Total Responses: 15,881; (7) Annual Estimated Number of Burden Hours: 25,036; (8) Annual Estimated Reporting and Recordkeeping Cost Burden: $1,293,623; (9) Response Obligation: Mandatory.

Statutory Authority: Atomic Energy Act of 1954, 42 U.S.C. 2201, and the Department of Energy Organization Act, 42 U.S.C. 7191 and 7254.

Issued in Washington, DC on August 29, 2012.
Stephen A. Kirchhoff,
Director, Office of Resource Management, Office of Health, Safety and Security.

[FR Doc. 2012-22083 Filed 9-6-12; 8:45 am]

BILLING CODE 6450-01-P